DEPARTMENT OF HOUSING AND URBAN DEVELOPMENT

[Docket No. FR-4652-N-14]

Announcement of OMB Approval Number for Public Housing Development Evidentiary Materials and Other Documents—24 CFR 941.610

AGENCY: Office of the Assistant Secretary for Public and Indian Housing, HUD.

ACTION: Announcement of OMB Approval Number.

SUMMARY: The purpose of this notice is to announce the OMB approval number for the collection of information pertaining to requirement for submission of evidentiary materials and other documents in the development of public housing.

FOR FURTHER INFORMATION CONTACT: Mildred M. Hamman, Department of Housing and Urban Development, 451 7th Street, Southwest, Washington, DC 20410, telephone (202) 708-0614, extension 4128. This is not toll-free number.

SUPPLEMENTARY INFORMATION: In accordance with the Paperwork Reduction Act of 1995 (44 U.S.C. Chapter 35, as Amended), this notice advises that OMB has responded to the Department's request for approval of the information collection pertaining to requirements for submission of evidentiary materials and other documents for public housing development. The approval number for this information collection is 2577-0033, which expire 6/30/2004.

An agency may not conduct or sponsor, and a person is not required to respond to, a collection of information, unless it displays a currently valid OMB control number.

Dated: July 24, 2001.
Karen A. Newton,
Deputy Assistant Secretary for Troubled Agency Recovery.

[FR Doc. 01-18961 Filed 7-30-01; 8:45 am]

BILLING CODE 4210-33-M